PEACE CORPS

Information Collection Request; Submission for OMB Review

AGENCY: Peace Corps.

ACTION: 60-Day notice and request for comments.

SUMMARY: The Peace Corps will be submitting the following information collection request to the Office of Management and Budget (OMB) for review and approval. In accordance with the Paperwork Reduction Act of 1995 and implementing OMB guidance, we are requesting comments on this collection from all interested individuals and organizations. The purpose of this notice is to allow 60 days for public comment in the Federal Register preceding submission to OMB.

DATES: Submit comments on or before November 24, 2025.

ADDRESSES: Address written comments and recommendations for the proposed information collection to James Olin, FOIA/Privacy Act Officer, by email at pcfr@peacecorps.gov. Email comments must be made in text and not in attachments.

FOR FURTHER INFORMATION CONTACT: James Olin, Peace Corps, at (202) 692-2507, or PCFR@peacecorps.gov.

SUPPLEMENTARY INFORMATION:

Title: Peace Corps Awareness and Affinity: National Survey of U.S. Adults.

OMB Control Number: 0420-0575.

Form number: PC-2210.

Type of Request: Renewal with Change.

Affected Public: Individuals.

Respondents Obligation to Reply: Voluntary.

Respondents: Members of the public and prospective Peace Corps Volunteer applicants.

Burden to the Public:

(a) Estimated number of respondents: 6, 200.

(b) Frequency of response: Twice.

(c) Estimated average burden per response: .188 hours.

(d) Estimated total reporting burden: 2333.32 hours.

(e) Estimated annual cost to respondents: 0.00.

General Description of Collection: The Peace Corps will renew its national awareness and recruitment campaign to promote the organization; its mission, goals, and values; and to attract and recruit qualified Volunteer applicants. The Peace Corps' Office of Communications will use the information collected by the Peace Corps Awareness and Affinity: National Survey of U.S. Adults to assess the effectiveness of the campaign. The Peace Corps conducted this survey in 2023, which proved beneficial in measuring general awareness and affinity for the Peace Corps; drivers, barriers, and motivations related to the application process; and perceptions of our audiences following the COVID-19 pandemic. Similar to when the survey was conducted in 2023, the Peace Corps will collect information to help broaden the pool of potential Volunteers and engage new audiences—this time to help meet the agency's goal of sending 8,000 qualified Volunteers overseas by 2030. The information collection will also be used to gather insights to identify key audience segments and help ensure the efficiency and success of future marketing efforts by:

• Identifying levels of awareness, knowledge, attitudes, and opinions about the Peace Corps among the general U.S. public and targeted audience segments;

• Collecting insights to inform communications, education, and outreach strategies by understanding which themes resonate most with different audience segments; and

• Determining the best channels for communication.

The Office of Communications will conduct this survey twice for optimal monitoring and evaluation.

Request for Comment: The Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on September 19, 2025.
James Olin,
FOIA/Privacy Act Officer.

[FR Doc. 2025-18426 Filed 9-22-25; 8:45 am]

BILLING CODE 6051-01-P